DEPARTMENT OF TRANSPORTATION

Federal Aviation Administration

14 CFR Part 71

[Airspace Docket No. 01-AGL-21]

Modification of Class E Airspace; Zanesville, OH

AGENCY: Federal Aviation Administration (FAA), DOT.

ACTION: Direct final rule; withdrawal.

SUMMARY: This document withdraws a direct final rule which modifies Class E airspace, Zanesville, OH.

DATES: The direct final rule published on Monday, March 11, 2002 at 67 FR 10835 is withdrawn as of June 14, 2002.

FOR FURTHER INFORMATION CONTACT: Denis C. Burke, Airspace Branch, AGL-520, Air Traffic Division, Federal Aviation Administration, 2300 East Devon Avenue, Des Plaines, Illinois 60018, telephone (847-294-7568).

SUPPLEMENTARY INFORMATION: The FAA published this direct final rule with a request for comments in the Federal Register on Monday, March 11, 2002, (67 FR 10835). The rule increased the radius of Class E airspace at Zanesville, OH. FAA uses the direct final rulemaking procedure for a noncontroversial rule where the FAA believes that there will be no adverse public comment. This direct final rule advised the public that no adverse comments were anticipated, and that unless a written adverse comment, or a written notice of intent to submit such an adverse comment, were received within the comment period, the regulation would become effective on August 08, 2002. Eight (8) comments were received in response to this airspace action. All eight (8) were objections and adverse in nature, and in accordance with Direct Final Rulemaking Procedures, the action must be withdrawn. A Notice Of Proposed Rulemaking, will be forthcoming.

Issued in Des Plaines, Illinois on May 30, 2002.
Nancy B. Shelton,
Manager, Air Traffic Division, Great Lakes Region.

[FR Doc. 02-14984 Filed 6-12-02; 8:45 am]

BILLING CODE 4910-13-M